DEPARTMENT OF COMMERCE

National Oceanic and Atmospheric Administration

[RTID 0648-XV011]

Draft 2019 Marine Mammal Stock Assessment Reports

AGENCY: National Marine Fisheries Service (NMFS), National Oceanic and Atmospheric Administration (NOAA), Commerce.

ACTION: Notice; request for comments and new information.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on the draft 2019 SARs. In addition to releasing draft 2019 Pacific SARs for public comment, NMFS is also providing an opportunity to comment on the final 2018 Western North Pacific (WNP) gray whale SAR previously published in the Federal Register on June 19, 2019 (84 FR 28489). NMFS is also requesting new information for strategic stocks that were not updated in 2019.

DATES: Comments must be received by February 25, 2020.

ADDRESSES: The 2019 draft SARs are available in electronic form via the internet at https://www.fisheries.noaa.gov/national/marine-mammal-protection/draft-marine-mammal-stock-assessment-reports. The 2018 final Gray Whale Western North Pacific SAR is available at https://www.fisheries.noaa.gov/national/marine-mammal-protection/marine-mammal-stock-assessment-reports-species-stock#cetaceans---large-whales.

Copies of the Alaska Regional SARs may be requested from Marcia Muto, Alaska Fisheries Science Center, NMFS, 7600 Sand Point Way NE, Seattle, WA 98115-6349.

Copies of the Atlantic, Gulf of Mexico, and Caribbean Regional SARs may be requested from Elizabeth Josephson, Northeast Fisheries Science Center, 166 Water St., Woods Hole, MA 02543.

Copies of the Pacific Regional SARs may be requested from Jim Carretta, Southwest Fisheries Science Center, 8604 La Jolla Shores Drive, La Jolla, CA 92037-1508.

You may submit comments or new information, identified by NOAA-NMFS-2019-0090, by either of the following methods:

Federal e-Rulemaking Portal: Go to www.regulations.gov/#!docketDetail;D=NOAA-NMFS-2019-0090, click the “Comment Now!” icon, complete the required fields, and enter or attach your comments.

Mail: Send comments, new information, or requests for copies of reports to: Dr. Zachary Schakner, Protected Species Science Branch, Office of Science and Technology, National Marine Fisheries Service, 1315 East-West Highway, Silver Spring, MD 20910-3226, Attn: Stock Assessments.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Dr. Zachary Schakner, Office of Science and Technology, 301-427-8106, Zachary.Schakner@noaa.gov; Marcia Muto, 206-526-4026, Marcia.Muto@noaa.gov, regarding Alaska regional stock assessments; Elizabeth Josephson, 508-495-2362, Elizabeth.Josephson@noaa.gov, regarding Atlantic, Gulf of Mexico, and Caribbean regional stock assessments; or Jim Carretta, 858-546-7171, Jim.Carretta@noaa.gov, regarding Pacific regional stock assessments.

SUPPLEMENTARY INFORMATION:

Background

Section 117 of the MMPA (16 U.S.C. 1361 et seq.) requires NMFS and the U.S. Fish and Wildlife Service (FWS) to prepare stock assessments for each stock of marine mammals occurring in waters under the jurisdiction of the United States, including the U.S. Exclusive Economic Zone. These reports must contain information regarding the distribution and abundance of the stock, population growth rates and trends, estimates of annual human-caused mortality and serious injury (M/SI) from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level or PBR (defined by the MMPA as the maximum number of animals, not including natural mortalities, that may be removed from a marine mammal stock while allowing that stock to reach or maintain its optimum sustainable population); (B) which, based on the best available scientific information, is declining and is likely to be listed as a threatened species under the Endangered Species Act (ESA) within the foreseeable future; or (C) which is listed as a threatened species or endangered species under the ESA. NMFS and the FWS are required to revise a SAR if the status of the stock has changed or can be more accurately determined.

Prior to public review, the updated SARs under NMFS' jurisdiction are peer-reviewed within NMFS Fisheries Science Centers and by members of three regional independent Scientific Review Groups, established under the MMPA to independently advise NMFS on information and uncertainties related to the status of marine mammals.

The period covered by the 2019 draft SARs is 2013-2017. NMFS reviewed the status of all marine mammal strategic stocks as required and considered whether significant new information was available for all other stocks under NMFS' jurisdiction. As a result of this review, NMFS revised a total of 65 reports representing 76 stocks in the Alaska, Atlantic, and Pacific regions to incorporate new information. The 2019 revisions consist primarily of updated or revised M/SI estimate, updated abundance estimates, including the application of an established capture-mark-recapture method to estimate the abundance of Gulf of Maine humpback whales, and the introduction of a new method for estimating cryptic mortality for Gulf of Maine humpback whales and North Atlantic right whales. One stock (Alaska ringed seal) changed in status from non-strategic to strategic, and four stocks (Western North Atlantic false killer whale and St. Andrew Bay, St. Joseph Bay, and West Bay common bottlenose dolphin stocks) changed in status from strategic to non-strategic. Substantive revisions to the SARs are discussed below.

NMFS solicits public comments on the draft 2019 SARs. In addition to releasing draft 2019 Pacific SARs for public comment, NMFS is also providing an opportunity to comment on the final 2018 WNP gray whale SAR previously published in the Federal Register on June 19, 2019 (84 FR 28489). NMFS is providing this opportunity because of the difference in abundance reported in the draft and final reports. To ensure NMFS is aware of new information relevant to all strategic stocks, NMFS requests new information for strategic stocks that were not updated in 2019. Specifically, new relevant information could include peer-reviewed information on human-caused serious injury and mortality, fishery interactions, abundance, distribution, stock structure and habitat concerns, which could be incorporated into the SARs, and other information on emerging concerns for a strategic stock.

Alaska Reports

In 2019, NMFS reviewed all 45 stocks in the Alaska region for new information, and revised 18 SARs under NMFS jurisdiction representing 29 stocks (15 strategic and 14 non-strategic). The Alaska ringed seal stock changed from non-strategic to strategic status because the stock is now considered threatened under the ESA (see below). A list of the 29 stocks revised in 2019 for the Alaska region (contained in 18 reports) is presented in Table 1. Information on the remaining Alaska region stocks can be found in the final 2018 reports (Muto et al., 2019).

Table 1—List of Marine Mammal Stocks in the Alaska Region Revised in 2019
Strategic stocks | Non-strategic stocks
• Steller sea lion, Western U.S | • Steller sea lion, Eastern U.S.
• Northern fur seal, Eastern Pacific | • Harbor seals (12 stocks):
• Bearded seal, Alaska | ○ Aleutian Islands.
• Ringed seal, Alaska | ○ Pribilof Islands.
• Beluga whale, Cook Inlet | ○ Bristol Bay.
• Killer whale, AT1 Transient | ○ N Kodiak.
• Harbor porpoise, Southeast Alaska | ○ S Kodiak.
• Harbor porpoise, Gulf of Alaska | ○ Prince William Sound.
• Harbor porpoise, Bering Sea | ○ Cook Inlet/Shelikof Strait.
• Sperm whale, North Pacific | ○ Glacier Bay/Icy Strait.
• Humpback whale, Western North Pacific | ○ Lynn Canal/Stephens Passage.
• Humpback whale, Central North Pacific | ○ Sitka/Chatham Strait.
• Fin whale, Northeast Pacific | ○ Dixon/Cape Decision.
• North Pacific right whale, Eastern North Pacific | ○ Clarence Strait.
• Bowhead whale, Western Arctic | • Killer whale, Eastern North Pacific Northern Resident.

Revisions to the Alaska SARs included updates of abundance and/or M/SI estimates. New abundance estimates are available for the Western and Eastern U.S. Steller sea lion, harbor seal (12 stocks), Alaska ringed seal, AT1 Transient and Eastern North Pacific Northern Resident killer whale, Southeast Alaska and Gulf of Alaska harbor porpoise, North Pacific sperm whale, Northeast Pacific fin whale, and Western Arctic bowhead whale stocks.

Alaska Ringed Seal

In 2012, NMFS listed the Arctic ringed seals (Pusa hispida hispida), and thus the Alaska stock of ringed seals, as threatened under the ESA (77 FR 76706, December 28, 2012). The primary concern for this population is the ongoing and projected loss of sea-ice and snow cover stemming from climate change, which is expected to pose a significant threat to the persistence of these seals in the foreseeable future. On March 11, 2016, the U.S. District Court for the District of Alaska issued a decision vacating NMFS' listing in a lawsuit that challenged listing ringed seals under the ESA (Alaska Oil and Gas Association v. Pritzker, Case No. 4:14-cv-00029-RPB). Consequently, it was also no longer designated as depleted or classified as a strategic stock. In 2018, the 9th Circuit Court of Appeals overturned the decision and approved the agency's protection of the seals, and the ESA listing was reinstated. Because of its threatened status under the ESA, this ringed seal stock is considered depleted under the MMPA and is now classified as a strategic stock. NMFS did not revise the Alaska ringed seal report in 2018 because at the time the draft 2018 SARs were prepared, this stock was not considered to be depleted or strategic under the MMPA. The change in status from non-strategic to strategic was notated in the final 2018 Alaska Marine Mammal Stock Assessments stock summary table (Appendix 2, Muto et al., 2019).

Atlantic Reports

In 2019, NMFS reviewed all 116 stocks in the Atlantic region for new information (including the Atlantic Ocean, Gulf of Mexico, and U.S. territories in the Caribbean) under NMFS jurisdiction. This year, NMFS revised 35 reports, created 1 new common bottlenose dolphin report (St. Andrew Bay) and resubmitted 1 new common bottlenose dolphin report (West Bay). These updated reports represent 37 stocks (5 strategic and 32 non-strategic). The Western North Atlantic (WNA) false killer whale stock and three common bottlenose dolphin stocks (St. Andrew Bay, St. Joseph Bay, and West Bay) changed from strategic to non-strategic status because they do not meet the criteria to qualify as strategic. A list of the 37 stocks in the Atlantic region is presented in Table 2. Information on the remaining Atlantic region stocks can be found in the final 2018 reports (Hayes et al., 2019).

Table 2—List of Marine Mammal Stocks in the Atlantic Region Revised in 2019
Strategic stocks | Non-strategic stocks
• North Atlantic right whale, Western Atlantic | • Humpback whale, Gulf of Maine.
• Fin whale, WNA | • Minke whale, Canadian East Coast.
• Sei whale, Nova Scotia | • Dwarf sperm whale, WNA.
• Blue whale, WNA | • Pygmy sperm whale, WNA.
• Sperm whale | • Pygmy killer whale, WNA.
| • False killer whale, WNA.
| • Cuvier's beaked whale, WNA.
| • Blainville's beaked whale, WNA.
| • Gervais beaked whale, WNA.
| • Sowerby's beaked whale, WNA.
| • True's beaked whale, WNA.
| • Melon-headed whale, WNA.
| • Risso's dolphin, WNA.
| • Pilot whale, long-finned, WNA.
| • Pilot whale, short-finned, WNA.
| • Atlantic white-sided dolphin, WNA.
| • White-beaked dolphin, WNA.
| • Common dolphin, WNA.
| • Atlantic spotted dolphin, WNA.
| • Pantropical spotted dolphin, WNA.
| • Striped dolphin, WNA.
| • Fraser's dolphin, WNA.
| • Clymene dolphin, WNA.
| • Spinner dolphin, WNA.
| • Common bottlenose dolphin, WNA offshore.
| • Harbor porpoise, Gulf of Maine/Bay of Fundy.
| • Harbor seal, WNA.
| • Gray seal, WNA.
| • Harp seal, WNA.
| • Bottlenose dolphin, West Bay.
| • Bottlenose dolphin, St. Andrew Bay.
| • Bottlenose dolphin, St. Joseph Bay.

Revisions to the Atlantic SARs included updates of abundance and/or M/SI estimates. New abundance estimates are available for the North Atlantic right whale, WNA fin whale, Nova Scotia sei whale, WNA blue whale, North Atlantic sperm whale, Gulf of Maine humpback whale, Canadian East Coast minke whale, WNA dwarf and pygmy sperm whale (Kogia spp.), WNA false killer whale, WNA beaked whale (Ziphius and Mesoplodon spp.), WNA Risso's dolphin, Long-finned pilot whale, WNA Atlantic white-sided dolphin, WNA White-beaked dolphin, WNA common dolphin, WNA Atlantic spotted dolphin, WNA pantropical spotted dolphin, WNA striped dolphin, WNA Clymene dolphin, WNA spinner dolphin, WNA common bottlenose dolphin, Gulf of Maine/Bay of Fundy harbor porpoise, and the West Bay, St. Andrew Bay, and St. Joseph Bay common bottlenose dolphin stocks.

Estimating Cryptic Mortality for North Atlantic Right Whale and Gulf of Maine Humpback Whale

The North Atlantic right whale and Gulf of Maine humpback whale reports include the presentation of cryptic mortality estimates and attempt to apportion unseen mortality to various sources while considering detection bias. The cryptic mortality estimate is calculated by taking the annual population estimate generated from the Pace et al. (2017) approach and applying a basic population dynamic formula. A method to assign cause to these unseen mortalities is still being established, as such these additions are not counted towards PBR at this time.

North Atlantic Right Whale, Western Atlantic

The western North Atlantic right whale stock size is based on a state-space model of the sighting histories of individual whales identified using photo-identification techniques (Pace et al. 2017). Using a hierarchical, state-space Bayesian open population model of these histories produced a median abundance value. The best abundance estimate available for the North Atlantic right whale stock is 428 individuals (95% credible intervals 406 to 447). The previous best abundance estimate in the 2018 SAR was 451 (95% credible intervals 434 to 464). As a result of the lower abundance estimate, the PBR decreased from 0.9 (in the 2018 SAR) to 0.8. Only 5 and 0 calves were detected in 2017 and 2018, respectively. Therefore, it is estimated the decline in the right whale population will continue for at least an additional 2 years.

Humpback Whale, Gulf of Maine

For the Gulf of Maine humpback whale report, two new independent abundance estimates are available from different methods—one based upon ship and aerial line-transect surveys, and a second from applying mark and recapture methods to photo identification records from the J. Robbins studies (Robbins and Pace 2018). The best abundance estimate for the Gulf of Maine humpback whale stock is 1,396 (based upon the mark and recapture method). The minimum abundance estimate is 1,380 (previously 896 in 2018 SAR) and PBR for the Gulf of Maine humpback whale stock is 22 whales (previously 14.6). This stock is not considered strategic, but if the newly estimated cryptic mortality were included, the estimated annual anthropogenic mortality would be over PBR.

False Killer Whale, Western North Atlantic

The WNA false killer whale WNA stock changed from strategic to non-strategic because it does not meet the criteria to qualify as strategic. When this stock was last revised in 2014, it was considered strategic because the abundance of the stock is small and NMFS was concerned that relatively few mortalities and serious injuries would exceed PBR. While no fishery-related mortality or serious injury has been observed in the last five years, there was a recorded interaction with the pelagic longline fishery in 2011. False killer whale interactions with longline fisheries in the Pacific are of considerable concern, but little is known about interactions in the Atlantic.

Common Bottlenose Dolphins

NMFS is in the process of writing individual stock assessment reports for each of the 31 bay, sound, and estuary stocks of common bottlenose dolphins in the northern Gulf of Mexico. Two new individual reports, for St. Andrew Bay and West Bay Estuarine System stocks, were completed for the draft 2019 SARs. The West Bay report was originally submitted with the draft 2018 SARs but was withdrawn because the updated abundance estimate for this stock was based on a publication that was still under review at the time the 2018 SARs were finalized. That publication is now “in press,” so NMFS is resubmitting the West Bay stock as a new draft 2019 report. The reader will not see tracked changes in the West Bay or St. Andrew Bay reports because these are new reports. To date, NMFS has completed seven individual bottlenose dolphin stocks reports (St. Andrew Bay, West Bay, Terrebonne-Timbalier Bay Estuarine System, Barataria Bay Estuarine System, Mississippi Sound/Lake Borgne/Bay Boudreau, Choctawhatchee Bay, and St. Joseph Bay), and the remaining 24 stocks are included in the Northern Gulf of Mexico Bay, Sound, and Estuary Stocks report.

The West Bay, St. Andrew Bay, and St. Joseph Bay common bottlenose dolphin stocks changed from strategic to non-strategic. These stocks were previously considered strategic in part due to an Unusual Mortality Event (UME) of unprecedented size and duration (2010 through 2014) among common bottlenose dolphins along the northern Gulf of Mexico coast. Although these stocks do not meet the criteria to qualify as strategic under the GAMMS (NMFS 2016), NMFS continues to have concerns regarding these stocks due to their small stock size and the high number of common bottlenose dolphin deaths associated with UMEs in the Florida panhandle since 1999.

Pacific Reports

In 2019, NMFS reviewed all 85 stocks in the Pacific region (waters along the west coast of the United States, within waters surrounding the main and Northwestern Hawaiian Islands, and within waters surrounding U.S. territories in the Western Pacific) for new information, and revised SARs for 10 stocks (6 strategic and 4 non-strategic). A list of the 10 reports revised in 2019 is presented in Table 3. Information on the remaining Pacific region stocks can be found in the final 2018 reports (Carretta et al., 2019).

Table 3—List of Marine Mammal Stocks in the Pacific Region Revised in 2019
Strategic stocks | Non-strategic stocks
• Guadalupe fur seal | • Harbor porpoise, Morro Bay.
• Hawaiian monk seal | • Harbor porpoise, Monterey Bay.
• Killer whale, Eastern N Pacific Southern Resident | • Harbor porpoise, San Francisco-Russian River.
• Sperm whale, CA/OR/WA | • Harbor porpoise, Northern CA/Southern OR.
• Humpback whale, CA/OR/WA
• Blue whale, Eastern N Pacific

New abundance estimates are available for 8 stocks: Guadalupe fur seals, Hawaiian monk seals, four harbor porpoise stocks (Morro Bay, Monterey Bay, San Francisco-Russian River, and Northern California/Southern Oregon), Southern Resident killer whales, and Eastern North Pacific blue whales.

2018 Final Western North Pacific Gray Whale SAR

In addition to releasing draft 2019 Pacific SARs for public comment, NMFS is also providing an opportunity to comment on the final 2018 WNP gray whale SAR previously published in the Federal Register on June 19, 2019 (84 FR 28489). NMFS is providing this opportunity because of the difference in abundance reported in the draft and final reports.

The draft 2018 WNP gray whale stock assessment was prepared during autumn 2017/winter 2018 in advance of the Pacific Scientific Review Group meeting in February 2018. The draft 2018 report included an abundance estimate and calculated PBR based on results from Cooke et al. (2016), who estimated WNP gray whale stock abundance at 175 whales (95% credible intervals 158 to 193). Following the publication of the draft report, the SAR authors reviewed abundance estimates by Cooke (2017) and Cooke et al. (2018) published in November 2017 and January 2018, respectively. Those publications estimate WNP abundance to be 290 individuals (90% credible intervals 271 to 311) due to differences in the data analyzed. Cooke et al. (2016) estimated abundance based on Sakhalin Island whales only, while Cooke (2017) and Cooke et al. (2018) estimates included whales from both Sakhalin and Kamchatka regions. After considering public comments on the draft 2018 SAR regarding open versus closed population assumptions on the combined Sakhalin-Kamchatka feeding aggregation (84 FR 28489, June 19, 2019), the SAR authors updated the abundance estimate in the final 2018 report using the values from Cooke 2017 and Cooke et al. 2018. The WNP abundance estimates in the final 2018 report are higher than the draft report because the final estimates included Kamchatka whales. As a result, PBR values changed from 0.07 in the draft report to 0.12 whales in the final 2018 WNP SAR. In light of these changes, NMFS is now accepting public comment on the abundance estimates that appear in the final 2018 Western North Pacific Gray Whale SAR.

References

Cooke, J.G., Weller, D.W., Bradford, A.L., Sychenko, O.A., Burdin, A.M., Lang, A.R. and Brownell, R.L., Jr. 2016. Updated population assessment of the Sakhalin gray whale aggregation based on a photo-identification study at Piltun, Sakhalin, 1995-2015. Paper SC/66b/BRG25 presented to the International Whaling Commission Scientific Committee.

Cooke J.G. 2017. Updated assessment of the Sakhalin gray whale population and its relationship to gray whales in other areas. IUCN Western Gray Whale Advisory Panel document 18/24.

Cooke, J.G., Taylor, B.L., Reeves, R. & Brownell Jr., R.L. 2018. Eschrichtius robustus western subpopulation. The IUCN Red List of Threatened Species 2018: e.T8099A50345475. http://dx.doi.org/10.2305/IUCN.UK.2018-2.RLTS.T8099A50345475.en.

Muto, M.M., V.T. Helker, R.P. Angliss, P.L. Boveng, J.M. Breiwick, M.F. Cameron, P.J. Clapham, S.P. Dahle, M.E. Dahlheim, B.S. Fadely, M.C. Ferguson, L.W. Fritz, R.C. Hobbs, Y.V. Ivashchenko, A.S. Kennedy, J.M. London, S.A. Mizroch, R.R. Ream, E.L. Richmond, K.E.W. Shelden, K.L. Sweeney, R.G. Towell, P.R. Wade, J.M. Waite, and A.N. Zerbini. 2019. Alaska marine Mammal Stock Assessments, 2018. NOAA Technical Memorandum NMFS-AFSC-393, June 2019. 390 pp.

Pace, R.M., III, P.J. Corkeron and S.D. Kraus. 2017. State-space mark-recapture estimates reveal a recent decline in abundance of North Atlantic right whales. Ecol. and Evol. 7:8730-8741. DOI: 10.1002/ece3.3406.

Dated: November 22, 2019.
Chris Oliver,
Assistant Administrator for Fisheries, National Marine Fisheries Service.

[FR Doc. 2019-25809 Filed 11-26-19; 8:45 am]

BILLING CODE 3510-22-P